COMMISSION ON CIVIL RIGHTS

Notice of Public Meeting of the Ohio Advisory Committee; Correction

AGENCY: Commission on Civil Rights.

ACTION: Notice; revision to meeting date.

SUMMARY: The Commission on Civil Rights published a notice in the Federal Register of Friday, August 28, 2020, concerning a meeting of the Ohio Advisory Committee. The document contained a date that is now changed to a new date.

FOR FURTHER INFORMATION CONTACT: Carolyn Allen, (202) 602-2375, callen@usccr.gov.

SUPPLEMENTARY INFORMATION:

Correction

In the Federal Register of Friday, August 28, 2020, in FR Doc. 2020-19074, on page 53792, second column of 53792, correct one of the Thursday, October 22, 2020 dates to read: Thursday, October 29, 2020 at 12:00 p.m. (EST).

Dated: August 31, 2020.
David Mussatt,
Supervisory Chief, Regional Programs Unit.

[FR Doc. 2020-19593 Filed 9-9-20; 8:45 am]

BILLING CODE P